DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Date and Time: March 21, 2014, 9:30 a.m.-5:00 p.m. Eastern Standard Time.

Place: Webinar Format.

Status: This meeting will be open to the public.

Purpose: The purpose of this meeting is to identify the key issues facing public health nursing and population health, and to formulate policy recommendations for Congress and the Secretary to ensure the nursing workforce is ready to meet these challenges. The objectives of the meeting are: (1) To articulate the key challenges facing public health nursing and population health; (2) to develop goals and priorities for Council action to address these challenges; and (3) to develop recommendations on the activities, initiatives, and partnerships that are critical to advancing twenty-first century public health nurse education and practice models needed to promote the health of the public. This meeting will form the basis for NACNEP's mandated Twelfth Annual Report to the Secretary of the U.S. Department of Health and Human Services and Congress. The meeting will include presentations and discussion focused around the purpose and objectives of this meeting.

Agenda: A tentative agenda will be available on the NACNEP Web site 10 days in advance of the meeting with a final agenda posted 1 day prior to the meeting. Agenda items are subject to change as priorities dictate.

Public Comment: Public participants may submit written statements in advance of the scheduled meeting. If you would like to provide oral public comment during the meeting, please address them to the Designated Federal Official (DFO), CDR Serina Hunter-Thomas, at shunter-thomas@hrsa.gov. Public comment will be limited to 3 minutes per speaker.

SUPPLEMENTARY INFORMATION: Further information regarding NACNEP, including the roster of members, Reports to Congress, and minutes from previous meetings is available at the following Web site: http://www.hrsa.gov/advisorycommittees/bhpradvisory/nacnep/index.html. In addition, please be advised that committee members are given copies of all written statements submitted from the public. Any further public participation will be solely at the discretion of the Chair, with approval of the DFO in attendance. Registration through the DFO for the public comment session is required. Any member of the public who wishes to have printed materials distributed to the Council for this scheduled meeting should submit material to the DFO no later than 12:00 p.m. EST March 18, 2014.

Members of the public and interested parties should request to participate in the meeting by contacting our Staff Assistant, Jeanne Brown, to obtain access information. Access will be granted upon request only and will be granted on a first-come, first-served basis. Space is limited.

FOR FURTHER INFORMATION CONTACT: Jeanne Brown, Staff Assistant, National Advisory Council on Nurse Education and Practice, Parklawn Building, Room 9-61, 5600 Fishers Lane, Rockville, Maryland 20857; email reachDN@hrsa.gov; telephone (301) 443-5688.

Dated: February 28, 2014.
Jackie Painter,
Deputy Director, Division of Policy and Information Coordination.

[FR Doc. 2014-04957 Filed 3-6-14; 8:45 am]

BILLING CODE 4165-15-P